ENVIRONMENTAL PROTECTION AGENCY

40 CFR Part 721

[EPA-HQ-OPPT-2023-0245; FRL-10985-04-OCSPP]

RIN 2070-AB27

Significant New Use Rules on Certain Chemical Substances (23-2.5e); Withdrawal

AGENCY: Environmental Protection Agency (EPA).

ACTION: Proposed rule; withdrawal.

SUMMARY: In the Federal Register of June 20, 2023, EPA proposed significant new use rules (SNURs) under the Toxic Substances Control Act (TSCA) for 18 chemical substances that were the subject of premanufacture notices (PMNs) and a subsequent TSCA Order. EPA is withdrawing the proposed rules because the Agency withdrew the TSCA Order that was the basis of the rules on December 18, 2024.

DATES: The proposed rule published at 88 FR 39804 on June 20, 2023, in the Federal Register (FRL-10985-01-OCSPP) is withdrawn as of July 9, 2025.

FOR FURTHER INFORMATION CONTACT:

For technical information: Iliriana Mushkolaj, New Chemicals Division (7405M), Office of Pollution Prevention and Toxics, Environmental Protection Agency, 1200 Pennsylvania Ave. NW, Washington, DC 20460-0001; telephone number: (202) 564-6877; email address: mushkolaj.iliriana@epa.gov.

For general information on SNURs: William Wysong, New Chemicals Division (7405M), Office of Pollution Prevention and Toxics, Environmental Protection Agency, 1200 Pennsylvania Ave. NW, Washington, DC 20460-0001; telephone number: (202) 564-4163; email address: wysong.william@epa.gov.

For general information on TSCA: The TSCA-Hotline, ABVI-Goodwill, 422 South Clinton Ave., Rochester, NY 14620; telephone number: (202) 554-1404; email address: TSCA-Hotline@epa.gov.

SUPPLEMENTARY INFORMATION:

I. Does this action apply to me?

A list of potentially affected entities is provided in the Federal Register of June 20, 2023 (88 FR 39804 (FRL-10985-01-OCSPP)). If you have questions regarding the applicability of this action to a particular entity, consult the technical person listed under FOR FURTHER INFORMATION CONTACT.

II. What proposed rule is being withdrawn?

In the Federal Register of June 20, 2023 (88 FR 39804 (FRL-10985-01-OCSPP)), EPA proposed SNURs pursuant to TSCA section 5(a)(2) (15 U.S.C. 2604(a)(2)) that would require persons who intend to manufacture (defined by statute to include import) or process any of 18 specific chemical substances derived from plastic waste for an activity that is proposed as a significant new use by this rule to notify EPA at least 90 days before commencing that activity. These chemical substances were subject to an August 25, 2022 TSCA section 5(e) Order imposed by EPA after review of PMNs for these substances.

The proposed SNURs identified significant new uses to include any manufacturing, processing, use, distribution in commerce, or disposal that does not conform to the restrictions imposed by the underlying TSCA section 5(e) Order. An additional proposed significant new use was manufacturing or processing of the chemical substances using feedstocks that contain any amount of heavy metals (arsenic, cadmium, chromium VI, lead, mercury), dioxins, phthalates, per- and polyfluoroalkyl substances (PFAS), polybrominated diphenyl ethers (PBDEs), alkylphenols, perchlorates, benzophenone, bisphenol A (BPA), organochlorine pesticides (OCPs), ethyl glycol, methyl glycol, or N-methyl-2- pyrrolidone (NMP).

On April 7, 2023, petitioners filed a Petition for Review of the TSCA section 5(e) Order. See Cherokee Concerned Citizens v. EPA, et al., No. 23-1096 (D.C. Cir.). Given certain potential infirmities with the Order, EPA sought voluntary remand of the TSCA section 5(e) Order to reconsider it. On December 4, 2024, the court issued an order granting EPA's motion for voluntary remand. EPA withdrew the TSCA section 5(e) Order (and associated determinations regarding the PMNs) on December 18, 2024. At the time that the TSCA section 5(e) Order was withdrawn, manufacture of the chemical substances had not yet commenced.

In addition, since the proposed rule's publication, EPA has received 30 comments, including adverse ones, which encouraged the Agency to remand or modify the TSCA section 5(e) Order and SNURs. Consistent with the withdrawal of the TSCA 5(e) Order, and for the reasons above, EPA is withdrawing the proposed rules. Copies of the comments are available in the docket.

III. How do I access the docket?

To access the docket, please go to https://www.regulations.gov and follow the online instructions using the docket ID number EPA-HQ-OPPT-2023-0245. Additional information about the Docket Facility is also provided under ADDRESSES in the June 20, 2023, Federal Register document. If you have questions, consult the technical person listed under FOR FURTHER INFORMATION CONTACT.

IV. Statutory and Executive Order Reviews

This action withdraws proposed regulatory requirements published in the Federal Register. As such, the Agency has determined that this action will not have any adverse impacts, economic or otherwise. The statutory and executive order review requirements applicable to this proposed rule were discussed in the June 20, 2023, Federal Register document. However, those review requirements do not apply to this action because it is a withdrawal.

List of Subjects in 40 CFR Part 721

Environmental protection, Chemicals, Hazardous substances, Reporting and recordkeeping requirements.

Dated: July 3, 2025.
Mary Elissa Reaves,
Director, Office of Pollution Prevention and Toxics.

[FR Doc. 2025-12704 Filed 7-8-25; 8:45 am]

BILLING CODE 6560-50-P